DEPARTMENT OF HEALTH AND HUMAN SERVICES

Centers for Disease Control and Prevention

Advisory Committee to the Director (ACD), Centers for Disease Control and Prevention—State, Tribal, Local and Territorial (STLT) Subcommittee

In accordance with section 10(a)(2) of the Federal Advisory Committee Act (Pub. L. 92-463), the Centers for Disease Control and Prevention (CDC) announces the following meeting of the aforementioned subcommittee:

Time and Date: 3:30 p.m.—5:00 p.m. EDT, March 13, 2015.

Place: This meeting will be held by teleconference.

Status: This meeting is open to the public, limited only by the availability of telephone ports. The public is welcome to participate during the public comment, which is tentatively scheduled from 4:45 p.m. to 4:55 p.m. To participate on the teleconference, please dial (888) 233-0592 and enter code 33288611.

Purpose: The Subcommittee will provide advice to the CDC Director through the ACD on strategies and future needs and challenges faced by State, Tribal, Local and Territorial health agencies, and will provide guidance on opportunities for CDC.

Matters for Discussion: The STLT Subcommittee members will discuss progress on implementation of ACD-adopted recommendations related to Public Health Surveillance, Public Health Finance and Social Determinants of Health as they relate to STLT public health agencies.

The agenda is subject to change as priorities dictate.

Contact Person for More Information: Judith Monroe, M.D., Designated Federal Officer, State, Tribal, Local and Territorial Subcommittee, Advisory Committee to the Director, CDC, 1600 Clifton Road NE., M/S E-70, Atlanta, Georgia 30333, Telephone (404) 498-0300, Email: OSTLTSDirector@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention (CDC).

[FR Doc. 2015-03252 Filed 2-17-15; 8:45 am]

BILLING CODE 4163-18-P